DEPARTMENT OF COMMERCE

National Oceanic and Atmospheric Administration

RIN 0648-XD499

Gulf of Mexico Fishery Management Council; Public Meetings

AGENCY: National Marine Fisheries Service (NMFS), National Oceanic and Atmospheric Administration (NOAA), Commerce.

ACTION: Notice; public meetings.

SUMMARY: The Gulf of Mexico Fishery Management Council (Council) will hold a meeting of the Standing and Special Reef Fish Scientific and Statistical Committee (SSC).

DATES: The meeting will convene at 8:30 a.m. Wednesday, October 1 until 12 noon Thursday, October 2, 2014.

ADDRESSES: Meeting address: The meeting will be held at the Gulf Council's office.

Council address: Gulf of Mexico Fishery Management Council, 2203 North Lois Avenue, Suite 1100, Tampa, FL 33607.

FOR FURTHER INFORMATION CONTACT: Mr. Steven Atran, Senior Fishery Biologist, Gulf of Mexico Fishery Management Council; telephone: (813) 348-1630; fax: (813) 348-1711; email: steven.atran@gulfcouncil.org.

SUPPLEMENTARY INFORMATION: The items of discussion in the individual meeting agenda are as follows:

Standing and Special Reef Fish SSC Agenda, Wednesday, October 1, 2014, 8:30 a.m. Until Thursday, October 2, 2014, 12 Noon

1. Introductions and Adoption of Agenda

2. Approval of August 6-8, 2014 Standing and Special Reef Fish SSC summary minutes

3. Selection of SSC representative at October 20-23, 2014 Council meeting (Mobile)

4. Review of MRIP Calibration Workshop Results

5. Gag ABCs With 2014 Red Tide Event Incorporated

6. FWC Hogfish Benchmark Assessment

7. Estimates of Red Snapper Abundance on Alabama's Offshore Reefs

8. Review of 5-year Research Plan

9. TOR and Schedule for SEDAR 43 (gray triggerfish standard assessment)

10. ABC Control Rule—Council Comments and Next Steps

11. Draft Agenda for 2015 National SSC Meeting

12. Tentative Dates for 2015 SSC Meetings

13. Other Business

The Agenda is subject to change, and the latest version will be posted on the Council's file server. To access the file server, the URL is https://public.gulfcouncil.org:5001/webman/index.cgi, or go to the Council's Web site and click on the FTP link in the lower left of the Council Web site (http://www.gulfcouncil.org). The username and password are both “gulfguest”. Click on the “Library Folder”, then scroll down to “SSC meeting-2014-10”.

The meetings will be webcast over the internet. A link to the webcast will be available on the Council's Web site, http://www.gulfcouncil.org.

Although other non-emergency issues not on the agenda may come before the Scientific and Statistical Committees for discussion, in accordance with the Magnuson-Stevens Fishery Conservation and Management Act, those issues may not be the subject of formal action during this meeting. Actions of the Scientific and Statistical Committees will be restricted to those issues specifically identified in the agenda and any issues arising after publication of this notice that require emergency action under Section 305(c) of the Magnuson-Stevens Fishery Conservation and Management Act, provided the public has been notified of the Council's intent to take action to address the emergency.

Special Accommodations

These meetings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: September 9, 2014.
Tracey L. Thompson,
Acting Deputy Director, Office of Sustainable Fisheries, National Marine Fisheries Service.

[FR Doc. 2014-21778 Filed 9-11-14; 8:45 am]

BILLING CODE 3510-22-P